DEPARTMENT OF HEALTH AND HUMAN SERVICES

Announcement of Physical Activity Guidelines Mid-Course Report Availability and Public Comment Period

AGENCY: Office of Disease Prevention and Health Promotion, Office of the Assistant Secretary for Health, Office of the Secretary, Department of Health and Human Services.

ACTION: Notice.

Authority: 15 U.S.C. 3719.

SUMMARY: The U.S. Department of Health and Human Services (HHS) announces the availability of the Physical Activity Guidelines for Americans (PAG) Mid-course Report and solicits written comments on the draft report. A subcommittee of the President's Council on Fitness, Sports and Nutrition (PCFSN) was convened to complete the PAG Mid-course Report. The subcommittee was tasked with reviewing the evidence on intervention strategies that have been shown to be effective in increasing physical activity among youth ages 3-17. The report is a review-of-reviews which highlights research from a variety of settings in which physical activity can successfully be implemented for youth, including school, community, preschool/childcare, home/family, and primary care settings. In addition, the report identifies areas for future research.

The intent of this report is to serve as a complement to the Physical Activity Guidelines for Americans, 2008 which recommends that youth ages 6-17 engage in at least 60 minutes of physical activity each day and provides strategies for increasing physical activity in youth toward meeting the PAG. Although the PAG did not include specific recommendations for youth younger than age 6, the PAG Mid-course Report includes intervention strategies in the preschool/childcare setting. This is a response to new science on physical activity among young children and supports HHS' efforts through Healthy People 2020 to promote physical activity in childcare settings. The subcommittee has completed its draft report and is soliciting public comment before the report is presented to PCFSN for deliberation, and subsequent submission to the Secretary, HHS.

DATES: Written comments on the PAG Mid-course Report can be submitted by email or mail and must be received on or before December 10, 2012 at 9:00 a.m. EST.

ADDRESSES: The PAG Mid-course Report is available for review electronically at www.health.gov/PAguidelines. Comments may be either emailed to PhysicalActivityGuidelines@hhs.gov or mailed to Katrina Butner, Office of Disease Prevention and Health Promotion, Department of Health and Human Services, 1101 Wootton Parkway, Suite LL100, Rockville, MD 20852. For those submitting written comments of more than 5 pages in length, please provide a 1-page summary of key points related to the comments submitted.

FOR FURTHER INFORMATION CONTACT: Katrina L. Butner, Ph.D., RD, ACSM CES, Coordinator, Physical Activity Guidelines for Americans Mid-course Report, Physical Activity and Nutrition Advisor, Office of Disease Prevention and Health Promotion, Department of Health and Human Services, 1101 Wootton Parkway, LL100, Rockville, MD 20852. Email: Katrina.Butner@hhs.gov. Phone: (240) 453-8271.

SUPPLEMENTARY INFORMATION: A subcommittee of the President's Council on Fitness, Sports and Nutrition (PCFSN) was created with approval of the Secretary, HHS. The subcommittee is comprised of ten experts in physical activity from both federal and non-federal sectors and is chaired by Council member, Dr. Risa Lavizzo-Mourey. The PAG Mid-course Report will serve as a complement to the Physical Activity Guidelines for Americans, 2008 and is expected to be released in 2013.

The PAG Mid-course Report is available electronically at www.health.gov/PAguidelines. Hard copies may be obtained by contacting the individual named within the FOR FURTHER INFORMATION CONTACT section of this notice.

Dated: September 24, 2012.
Don Wright,
Director, Office of Disease Prevention and Health Promotion.

[FR Doc. 2012-27425 Filed 11-8-12; 8:45 am]

BILLING CODE 4150-32-P